DEPARTMENT OF JUSTICE

Notice of Lodging of Consent Decree Under the Clean Air Act

Under 28 CFR 50.7, notice is hereby given that on October 2, 2002, a proposed Consent Decree in United States v. Agra Resources Cooperative, d/b/a/ Exol, Broin and Associates, Inc., and Broin Management, L.L.C., Civil Action No. CV02-3789 MJD/JGL, (“Exol”) was lodged with the United States District Court for the District of Minnesota.

In this action the United States sought to resolve claims against the owners and operators of an ethanol dry mill in Albert Lea, Minnesota, pursuant to section 113(b) of the Clean Air Act (“Act”), 42 U.S.C. 7413(b) (1983), amended by, 42 U.S.C. 7413(b) (Supp. 1991). The United States sought injunctive relief and civil penalties for violations of the Prevention of Significant Deterioration (“PSD”) provisions, the New Source Performance Standards (“NSPS”), 40 CFR part 60, subparts Db, Dc, DD, Kb, and VV; and the National Emission Standards for Hazardous Air Pollutants (“NESHAP”), 40 CFR part 63, pursuant to sections 112(d) and 112(g) of the Act; and the Minnesota state implementation plan (“SIP”) which incorporates and/or implements the above-listed federal regulations. Under the proposed settlement, Exol will install air pollution control technology, comply with new, more stringent emission limits, and pay a civil penalty of $30,409. The Minnesota Pollution Control Agency has joined in the settlement as a signatory to the Consent Decree.

The Department of Justice will receive for a period of thirty (30) days from the date of this publication comments relating to the Exol Consent Decree. Comments should be addressed to the Assistant Attorney General, Environment and Natural Resources Division, PO Box 7611, U.S. Department of Justice, Washington, DC 20044-7611, and should refer to: United States v. Agra Resources Cooperative, d/b/a/ Exol, Broin and Associates, Inc., and Broin Management, L.L.C., D.J. Ref. 90-5-2-1-07784/7.

The Consent Decree may be examined at the Office of the Attorney General, NCL Towers Suite 900, 445 Minnesota Street, St. Paul, MN 55101-2127, and at U.S. EPA Region 5, 77 West Jackson Blvd., Chicago, IL 60604. A copy of the Consent Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $14.25 (25 cents per page reproduction cost) payable to the U.S. Treasury.

William Brighton,
Assistant Chief, Environmental Enforcement Section, Environment and Natural Resources Division.

[FR Doc. 02-27069 Filed 10-23-02; 8:45 am]

BILLING CODE 4410-15-M